DEPARTMENT OF JUSTICE

Office of Justice Programs

[OMB Number 1121-0277]

Agency Information Collection Activities: Proposed Collection; Comments Requested

ACTION: 60-Day Notice of Information Collection Under Review: Revisions of currently approved collection and Extension of currently approved collection; Office for Victims of Crime Training and Technical Assistance Center (OVC TTAC) and OJJDP National Training and Technical Assistance Center (NTTAC) Feedback Form Package.

The Department of Justice, Office of Justice Programs will be submitting the following information collection request to the Office of Management and Budget (OMB) for review and approval in accordance with the Paperwork Reduction Act of 1995. The proposed information collection is published to obtain comments from the public and affected agencies. Comments are encouraged and will be accepted for 60 days until June 26, 2007. This process is conducted in accordance with 5 CFR 1320.10

If you have comments, especially on the estimated public burden or associated response time, suggestions, or need a copy of the proposed information collection instrument with instructions or additional information, please contact Pamela Leupen, Director, Technical Assistance, Publications, and Information Resources, Office for Victims of Crime, Office of Justice Programs, Department of Justice, 810 7th Street, NW., Washington, DC 20530 or Steve Antkowiak, Training and Technical Assistance Coordinator, Office of Juvenile Justice and Delinquency Prevention, Office of Justice Programs, Department of Justice, 810 7th Street, NW., Washington, DC 20531.

Written comments and suggestions from the public and affected agencies concerning the proposed collection of information are encouraged. Your comments should address one or more of the following four points:

—Evaluate whether the proposed collection of information is necessary for the proper performance of the functions of the agency/component, including whether the information will have practical utility;

—Evaluate the accuracy of the agencies/components estimate of the burden of the proposed collection of information, including the validity of the methodology and assumptions used;

—Enhance the quality, utility, and clarity of the information to be collected; and

—Minimize the burden of the collection of information on those who are to respond, including the use of appropriate automated, electronic, mechanical, or other technological collection techniques or other forms of information technology, e.g., permitting electronic submission of responses.

Overview of this information collection:

(1) Type of Information Collection: Revisions of Currently Approved Collection and Extension of a Currently Approved Collection.

(2) The Title of the Form/Collection: OVC TTAC and NTTAC Feedback Form Package.

(3) The Agency form number, if any, and the applicable component of the Department of Justice sponsoring the collection: Form Number(s): T-100, T-200, T-300, G-100, G-200, and G-300. Office for Victims of Crime, Office of Justice Programs, Department of Justice. Additionally, the applicable agency for the NTTAC evaluation and needs assessment forms is the Office of Juvenile Justice and Delinquency Prevention, Office of Justice Programs, Department of Justice.

(4) Affected public who will be asked or required to respond, as well as a brief abstract, Primary: State, Local or Tribal. Other: Federal Government; Individuals or households; Not-for-profit institutions; Businesses or other for-profit. Abstract: The Office for Victims of Crime Training and Technical Assistance Center (OVC TTAC) and OJJDP National Training and Technical Assistance Center (NTTAC) Feedback Form Package is designed to collect the data necessary to continuously assess the outcome and impact of the assistance provided through OVC TTAC and NTTAC for both monitoring and accountability purposes to continuously meet the needs of the victim service field. Both OVC TTAC and NTTAC will send these forms to technical assistance (TA) recipients, to capture important feedback on the recipient's satisfaction with the quality, efficiency, referrals, and resources provided. Additionally, needs assessment forms will be sent to OJJDP grantees and juvenile justice professionals for voluntary completion. The data will then be used to advise OVC TTAC and NTTAC on ways to improve the support provided to its users and the victim service field at-large.

(5) An estimate of the total number of respondents and the amount of time estimated for an average respondent to respond/reply: There are approximately 16,492 respondents who will require an average of 5 minutes to respond to a single form for TTAC and approximately 4,850 respondents who will require an average of 5 minutes to respond to a single evaluation form for NTTAC. Additionally, approximately 4,572 respondents will require an average of 15 minutes to respond to the needs assessment form for NTTAC.

(6) An estimate of the total public burden (in hours) associated with the collection: The total annual public burden hours for this information collection is estimated to be 2921 hours.

If additional information is required contact Lynn Bryant, Department Clearance Officer, United States Department of Justice, Planning and Policy Staff, Justice Management Division, 601 D Street, NW., Suite 1600, Washington, DC 20530.

Dated: April 23, 2007.
Lynn Bryant,
Department Clearance Officer, PRA, United States Department of Justice.

[FR Doc. 07-2076 Filed 4-26-07; 8:45 am]

BILLING CODE 4410-18-M